DEPARTMENT OF HOMELAND SECURITY

Bureau of Citizenship and Immigration Services

Agency Information Collection Activities: Comment Request

ACTION: Notice of information collection under review; 1615-0004 Supplement A Form I-539 (Filing Instructions for V Nonimmigrant Status).

The Department Homeland Security, Bureau of Citizenship and Immigration Services (CIS) has submitted the following information collection request for review and clearance in accordance with the Paperwork Reduction Act of 1995. This notice is published to obtain comments from the public and affected agencies. Comments are encouraged and will be accepted for sixty days until December 7, 2004.

Written comments and suggestions from the public and affected agencies concerning the proposed collection of information should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Extension of currently approved information collection.

(2) Title of the Form/Collection: Supplement A to Form I-539 (Filing Instructions for V Nonimmigrant Status Applicants).

(3) Agency form number, if any, and the applicable component of the Department of Homeland Security sponsoring the collection: Form I-539 Supplement A. Bureau of Citizenship and Immigration Services.

(4) Affected public who will be asked or required to respond, as well as a brief abstract: Primary: Individuals or Households. This form is used by nonimmigrants to apply for extension of stay or change of nonimmigrant status for obtaining V nonimmigrant classification. The CIS will use the data on this form to determine eligibility for the requested benefit.

(5) An estimate of the total number of respondents and the amount of time estimated for an average respondent to respond: 427,000 responses at 30 minutes (.50) per response.

(6) An estimate of the total public burden (in hours) associated with the collection: 213,500 annual burden hours.

If you have additional comments, suggestions, or need a copy of the proposed information collection instrument with instructions, or additional information, please contact Richard A. Sloan 202-616-7600, Director, Regulatory Management Division, Department of Homeland Security, 111 Massachusetts Avenue, NW., Washington, DC 20529. Additionally, comments and/or suggestions regarding the item(s) contained in this notice, especially regarding the estimated public burden and associated response time may also be directed to Mr. Richard A. Sloan.

Dated: October 4, 2004.
Richard A. Sloan,
Department Clearance Officer, Department of Homeland Security, Bureau of Citizenship and Immigrant Services.

[FR Doc. 04-22673 Filed 10-7-04; 8:45 am]

BILLING CODE 4410-10-M